DEPARTMENT OF EDUCATION

Privacy Act of 1974, as Amended; Computer Matching Program Between the U.S. Department of Education and the Department of Veterans Affairs

AGENCY: Department of Education.

ACTION: Notice.

SUMMARY: This document provides notice of the computer matching program between the U.S. Department of Education (ED) and the Department of Veterans Affairs (VA). The computer matching program will begin on the effective date specified in paragraph 5.

SUPPLEMENTARY INFORMATION: This notice is provided under the Privacy Act of 1974 (5 U.S.C. 552a), as amended by the Computer Matching and Privacy Protection Act of 1988 (Pub. L. 100-503) and the Computer Matching and Privacy Protection Amendments of 1990 (Pub. L. 101-508)(Privacy Act); the Office of Management and Budget (OMB) Final Guidance Interpreting the Provisions of Public Law 100-503, the Computer Matching and Privacy Protection Act of 1988, 54 FR 25818 (June 19, 1989); and OMB Circular A-130, Appendix 1.

1. Name of Participating Agencies. ED and VA.

2. Purpose of the Match.The computer matching program will assist ED in its obligation to ensure that borrowers with disabilities who have loans under title IV of the Higher Education Act of 1965, as amended (HEA) (20 U.S.C. 1070 et seq.), more efficiently and effectively apply for total and permanent disability discharge of their student loans.

3. Authority for Conducting the Matching Program.ED's legal authority to enter into this computer matching program is section 437 of the HEA (20 U.S.C. 1087(a)); the regulations promulgated pursuant to that 552a(a)(8)). VA's legal authority to enter into this computer matching program and to disclose information thereunder is the Privacy Act (5 U.S.C. 552a(a)(8) and (b)(3)).

4. Categories of Records and Individuals Covered by the Match. The records to be used in the match are described as follows:

VA will disclose to ED the name (first and last), date of birth, Social Security Number, and date of disability determination for individuals who are in receipt of VA disability compensation benefits with a VA disability compensation rating of 100 percent Permanent and Total.

ED will match the file received from VA with ED's records on individuals who owe a balance on one or more title IV, HEA loans or who have had a loan written off due to default, as contained in ED's system of records entitled “National Student Loan Data System (NSLDS)” (18-11-06), last published in the Federal Register in full on June 28, 2013 (78 FR 38963-38969) and last updated on April 2, 2014 (79 FR 18534-18536).

The ED data described in the preceding paragraph will be matched with the VA system of records identified as “BIRLS—VA” (38VA21), first published at 49 FR 38095 (August 26, 1975), routine use 21, as added by 66 FR 30049-30050 (June 4, 2001), which is the published system notice that added routine use 21 to this system of records notice.

5. Effective Date of the Matching Program. The computer matching program will become effective at the latest of the following dates: (1) The date of the last signatory to this Computer Matching Agreement; (2) 40 days after the signing of the transmittal letter sending the computer matching program report to Congress and OMB, unless OMB disapproves the matching program within the 40-day review period; (3) if OMB waives 10 or fewer days of the 40-day review period for compelling reasons, then 30 days plus whatever number of the 10 days that OMB did not waive after the signing of the transmittal letter sending the computer matching program report to Congress and OMB; or (4) 30 days after publication of this notice in the Federal Register. The matching program will continue for 18 months after the effective date and may be extended for an additional 12 months if the conditions specified in 5 U.S.C. 552a(o)(2)(D) have been met.

6. Address for Receipt of Public Comments or Inquiries. Individuals wishing to comment on this matching program or obtain additional information about the program, including requesting a copy of the computer matching agreement between ED and VA, may contact Lisa Oldre, Program Operations Specialist, Federal Student Aid, U.S. Department of Education, 830 First Street NE., Washington, DC 20202-5320. Telephone: 202-377-3249. As a secondary contact, individuals may contact Pam Eliadis, Service Director, System Operations & Aid Delivery Management, Federal Student Aid, U.S. Department of Education, 830 First Street NE., Washington, DC 20202-5320. Telephone: (202) 377-3554.

If you use a telecommunications device for the deaf (TDD) or a text telephone (TTY), you may call the Federal Relay Service (FRS) at 1-800-877-8339.

Individuals with disabilities can obtain this document in an alternative format (e.g., braille, large print, audiotape, or compact disc) on request to either contact person listed in the previous paragraph.

Electronic Access to the Document: The official version of this document is the document published in the Federal Register. Free Internet access to the official edition of the Federal Register and the Code of Federal Regulations is available via the Federal Digital System at: www.gpo.gov/fdsys. At this site you can view this document, as well as all other documents of ED published in the Federal Register, in text or Adobe Portable Document Format (PDF). To use PDF you must have Adobe Acrobat Reader, which is available free at the site.

You may also access documents of ED published in the Federal Register by using the article search feature at: www.federalregister.gov. Specifically, through the advanced search feature at this site, you can limit your search to documents published by ED.

Authority: The Privacy Act of 1974, as amended (5 U.S.C. 552a).

Dated: December 2, 2016.
James W. Runcie,
Chief Operating Officer, Federal Student Aid.

[FR Doc. 2016-29364 Filed 12-6-16; 8:45 am]

BILLING CODE 4000-01-P